FEDERAL COMMUNICATIONS COMMISSION

Notice of Public Information Collection(s) Being Submitted for Review to the Office of Management and Budget

November 10, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 23, 2005. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., DC 20554 or via the Internet to Judith-B.Herman@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION:

OMB Control No.: 3060-1022.

Title: Section 101.1403, Broadcast Carriage Requirements.

Form No.: N/A.

Type of Review: Revision of a currently approved collection.

Respondents: Business or other for-profit.

Number of Respondents: 214.

Estimated Time Per Response: 1 hour.

Frequency of Response: On occasion reporting requirement and third party disclosure requirement.

Total Annual Burden: 214 hours.

Total Annual Cost: N/A.

Privacy Act Impact Assessment: N/A.

Needs and Uses: Section 101.1403 requires certain Multichannel Video Distribution and Data Service (MVDDS) licensees to comply with the statutory broadcast carriage requirements of 47 U.S.C. Section 325(b)(1). These MVDDS licensees must obtain the prior express authority of a broadcast station before retransmitting that station's signal.

With this submission, the Commission is revising this information collection because on July 7, 2003, the Commission released a Third Report and Order in ET Docket No. 98-206 (FCC 03-152) that decreased the number of MVDDS license areas from 354 Component Economic Areas (CEAs) to 214 license areas (210 Designated Market Areas (DMAs) and four FCC-defined areas). As a result of this change the number of respondents required to meet the requirements of Section 101.1403 decreased from 354 to 214.

OMB Control No.: 3060-1023.

Title: Section 101.103, Frequency Coordination Procedures.

Form No.: N/A.

Type of Review: Revision of a currently approved collection.

Respondents: Business or other for-profit.

Number of Respondents: 214.

Estimated Time Per Response: .5 hours—1 hour.

Frequency of Response: On occasion reporting requirement and third party disclosure requirement.

Total Annual Burden: 1,177 hours.

Total Annual Cost: N/A.

Privacy Act Impact Assessment: N/A.

Needs and Uses: Section 101.103(f) requires MVDDS licensees to provide notice of intent of construct of proposed antenna to NGSO FSS licensees operating in the 12.2 “ 12.7 GHz frequency band and maintain an Internet Web site of all existing transmitting sites and transmitting antenna that are scheduled for operation within one year including the “in service” dates.

With this submission, the Commission is revising this information collection because on July 7, 2003, the Commission released a Third Report and Order in ET Docket No. 98-206 (FCC 03-152) that decreased the number of MVDDS license areas from 354 Component Economic Areas (CEAs) to 214 license areas (210 Designated Market Areas (DMAs) and four FCC-defined areas). As a result of this change the number of respondents required to meet the requirements of Section 101.103 decreased from 354 to 214. However, the Commission is increasing the total annual burden hours to 1,177 (from 177 hours) to reflect the previously approved requirement to establish and update an Internet site.

OMB Control No.: 3060-1024.

Title: Section 101.1413, License Term and Renewal Expectancy.

Form No.: N/A.

Type of Review: Revision of a currently approved collection.

Respondents: Business or other for-profit.

Number of Respondents: 214.

Estimated Time Per Response: .50 hours.

Frequency of Response: On occasion and 10 year reporting requirements.

Total Annual Burden: 107 hours.

Total Annual Cost: $5,300.

Privacy Act Impact Assessment: N/A.

Needs and Uses: Section 101.1413 requires MVDDS licensees to file a showing of substantial service at five and ten years into the initial license term. The substantial service requirement is defined as a service that is sound, favorable, and substantially above the level of mediocre service which might minimally warrant renewal. The renewal obligation of an MVDDS licensee must include the following showings in order to claim a renewal expectancy: (1) A coverage map depicting the served and unserved areas; (2) a corresponding description of current service in terms of geographic coverage and population served or transmitter locations in the served areas; and (3) copies of any Commission Orders finding the licensee to have violated the Communications Act or any Commission rule or policy and a list of any pending proceedings that relate to any matter described by the requirements for the renewal expectancy. With this submission, the Commission is revising this information collection because on July 7, 2003, the Commission released a Third Report and Order in ET Docket No. 98-206 (FCC 03-152) that decreased the number of MVDDS license areas from 354 Component Economic Areas (CEAs) to 214 license areas (210 Designated Market Areas (DMAs) and four FCC-defined areas). As a result of this change the number of respondents required to meet the requirements of Section 101.1413 decreased from 354 to 214.

OMB Control No.: 3060-1025.

Title: Section 101.1440, MVDDS Protection of Direct Broadcast Satellites (DBS).

Form No.: N/A.

Type of Review: Revision of a currently approved collection.

Respondents: Business or other for-profit.

Number of Respondents: 217.

Estimated Time Per Response: 40 hours for 214 MVDDS licensees; 25 hours per 3 DBS licensees.

Frequency of Response: On occasion reporting requirement and third party disclosure requirement.

Total Annual Burden: 8,635 hours.

Total Annual Cost: N/A.

Privacy Act Impact Assessment: N/A.

Needs and Uses: Section 101.1440 requires MVDDS licensees to conduct a survey of the area around its proposed transmitting antenna site to determine the location of all DBS customers of record that may potentially be affected by the introduction of its MVDDS service. At least 90 days prior to the planned date of MVDDS commencement of operations, the MVDDS licensee must then provide specific information to the DBS licensee(s). Alternatively, MVDDS licensees may obtain a signed written agreement from DBS customers of record stating that they are aware of and agree to their DBS system receiving MVDDS signal levels in excess of the appropriate Equivalent Power Flux Density (EPFD) limits. The DBS licensee must thereafter provide the MVDDS licensee with a list of only those new DBS customer locations that have been installed in the 30-day period following the MVDDS notification that the DBS licensee believes may receive harmful interference or where the prescribed EPFD limits may be exceeded. If the MVDDS licensee determines that its signal level will exceed the EPFD limit at any DBS customer site, it shall take whatever steps are necessary, up to and including finding a new transmitter site.

With this submission, the Commission is revising this information collection because on July 7, 2003, the Commission released a Third Report and Order in ET Docket No. 98-206 (FCC 03-152) that decreased the number of MVDDS license areas from 354 Component Economic Areas (CEAs) to 214 license areas (210 Designated Market Areas (DMAs) and four FCC-defined areas). As a result of this change the number of respondents required to meet the requirements of Section 101.1440 decreased from 354 to 214.

OMB Control No.: 3060-1026.

Title: Section 101.1417, Annual Report.

Form No.: N/A.

Type of Review: Revision of a currently approved collection.

Respondents: Business or other for-profit.

Number of Respondents: 214.

Estimated Time Per Response: 1 hour.

Frequency of Response: Annual reporting requirement.

Total Annual Burden: 214 hours.

Total Annual Cost: N/A.

Privacy Act Impact Assessment: N/A.

Needs and Uses: Section 101.1417 requires MVDDS licensees to file with the Commission two copies of a “license information report” by March 1st of each year for the preceding calendar year. This annual report must include the name and address of the licensee; the station(s) call letters and primary geographic service area(s); and statistical data for the licensee's station.

With this submission, the Commission is revising this information collection because on July 7, 2003, the Commission released a Third Report and Order in ET Docket No. 98-206 (FCC 03-152) that decreased the number of MVDDS license areas from 354 Component Economic Areas (CEAs) to 214 license areas (210 Designated Market Areas (DMAs) and four FCC-defined areas). As a result of this change the number of respondents required to meet the requirements of Section 101.1417 decreased from 354 to 214.

Federal Communications Commission.
Marlene H. Dortch,
Secretary.

[FR Doc. 05-22923 Filed 11-22-05; 8:45 am]

BILLING CODE 6712-01-P